DEPARTMENT OF TRANSPORTATION

Federal Transit Administration

Preparation of a Tier 1 Environmental Impact Statement for Transit Improvements in the BeltLine Corridor in the City of Atlanta, GA

AGENCY: Federal Transit Administration (FTA), Department of Transportation (DOT).

ACTION: Notice of Intent to prepare an Environmental Impact Statement and 4(f) Evaluation.

SUMMARY: The Federal Transit Administration and the Metropolitan Atlanta Rapid Transit Authority (MARTA) are planning to prepare a Tier 1 Environmental Impact Statement (Tier 1 EIS) and 4(f) Evaluation for an approximately 22-mile loop of proposed transit and trail improvements within the City of Atlanta. The Tier 1 EIS will be prepared in accordance with regulations implementing the National Environmental Policy Act (NEPA), as well as provisions of the Safe, Accountable, Flexible, Efficient Transportation Equity Act: A Legacy for Users (SAFETEA-LU), enacted in 2005. The purpose of this Notice of Intent (NOI) is to alert interested parties regarding the plan to prepare the Tier 1 EIS; to provide information on the nature of the proposed project; to invite participation in the Tier 1 EIS process, including comments on the scope of the Tier 1 EIS proposed in this notice; and to announce that public scoping meetings will be conducted. Tiering reflects FTA and MARTA's belief that it is necessary to focus on the actual issues ripe for decision at each level of environmental review (40 CFR 1508.28). It is the intent of this preliminary environmental documentation to determine and environmentally evaluate transit mode and general alignment for both the transit and trails in this corridor.

DATES: Comment Due Date: Written comments on the scope of the Tier 1 EIS should be sent to Don Williams, Project Manager, MARTA, by September 22, 2008.

Scoping Meetings: Eight public scoping meetings will be held between August 19 and August 21, 2008, at locations indicated under ADDRESSES below. An interagency pre-scoping meeting will be held on August 12, 2008, and an interagency post-scoping meeting will be held on August 22, 2008, at MARTA Headquarters.

ADDRESSES: Written comments on the scope of the Tier 1 EIS should be sent to Don Williams, Project Manager, Metropolitan Atlanta Rapid Transit Authority, 2424 Piedmont Road, NE., Atlanta, GA 30324-3330. Comments may also be offered at the public scoping meetings and via e-mail at dwa_beltlinestudy@bellsouth.net.

The dates, times, and locations for the public scoping meetings are as follow:

Meetings 1&2: Tuesday, August 19, 2008, 1 p.m.-3 p.m. and 6 p.m.-8 p.m., Trinity Presbyterian Church, 3003 Howell Mill Road, Room B, Atlanta, GA 30327.

Meetings 3&4: Tuesday, August 19, 2008, 1 p.m.-3 p.m. and 6 p.m.-8 p.m., The Trolley Barn, 963 Edgewood Avenue, NE., Atlanta, GA 30307.

Meetings 5&6: Thursday, August 21, 2008, 1 p.m.-3 p.m. and 6 p.m.-8 p.m., Georgia Hill Neighborhood Center, 250 Georgia Avenue, SE., Atlanta, GA 30312.

Meetings 7&8: Thursday, August 21, 2008, 1 p.m.-3 p.m. and 6 p.m.-8 p.m., Central United Methodist Church, 503 Mitchell Street, SW., Atlanta, GA 30314.

The appropriate federal, state, and local agency offices will be notified individually about the time and location of the interagency scoping meeting.

The locations of the scoping meetings are accessible to persons with disabilities. If translation, signing services, or other special accommodations are needed, please contact Project Hotline at (404) 524-2070 or for hearing impaired TTY (404) 848-4931 at least 48 hours before the meeting. A scoping information packet is available on the project Web site at: http://www.itsmarta.com/newsroom/beltline.html or by calling the Project Hotline at (404) 524-2070. Copies will also be available at the scoping meetings.

FOR FURTHER INFORMATION CONTACT: David Schilling, Community Planner, Federal Transit Administration, 230 Peachtree, NW., Suite 800, Atlanta, Georgia 30303, Telephone: (404) 865-5600, Facsimile (404) 865-5605; Don Williams, Manager Regional Planning and Analysis, Metropolitan Atlanta Rapid Transit Authority, 2424 Piedmont Road, NE., Atlanta, GA 30324-3330, Telephone: (404) 848-4422, Facsimile (404) 848-5132; or Nate Conable, Senior Project Manager, Atlanta BeltLine, Inc., 86 Pryor Street, Suite 200, Atlanta, Georgia 30303, Telephone: (404) 880-4100, Facsimile: (404) 880-0616.

SUPPLEMENTARY INFORMATION: Description of Study Area and Proposed Project: The BeltLine Corridor contains many of Atlanta's residential neighborhoods, a majority of the parks in the central city area, as well as a significant number of major attractions and points of interest. Transit improvements in the Atlanta BeltLine Corridor would create a new 22-mile transit loop, including potential new stations on an existing rail right-of-way. The BeltLine Corridor would connect to the MARTA heavy rail system at or near four locations: Lindbergh Center, Inman Park/Reynoldstown, West End, and Ashby Stations. Improvements in the BeltLine Corridor would support the MARTA bus network, other regional bus services, future High Capacity Transit projects along I-75, I-285, Memorial Drive and Buford Highway, the pending commuter rail service between Lovejoy and downtown Atlanta, and the proposed Peachtree Streetcar. The Atlanta BeltLine Corridor also includes approximately 33 miles of new multi-use trails in a linear park located primarily along the corridor, with extensions connecting to parks and other trails.

Purpose of and Need for the Proposed Project: The purpose of the BeltLine Corridor transit and trails improvements are to improve local and regional mobility, address accessibility and connectivity, and support the City of Atlanta's redevelopment plans. The need for the proposed project stems from population and employment growth that is related to the occurring and planned redevelopment within the City and the City's desire to provide better linkages to parks throughout the area and to increase overall availability of accessible greenspace.

Alternatives: Through a process of technical evaluation and public input during the previous MARTA BeltLine study, the Inner Core Alternatives Analysis (January 2007), a large number of alternatives was examined, leading to the agency selection of a Locally Preferred Alternative (PA). This decision was based on the PA being the best performing alternative and preferred by the public and major stakeholders. The preliminary list of alternatives to be considered in the Tier 1 Draft EIS will include the No Build Alternative and the PA (henceforth referred to as the Build Alternative):

• No Build Alternative: The No Build Alternative assumes that no transportation infrastructure improvements would be made in the project area apart from improvements that have already been committed to by the Georgia Department of Transportation, the City of Atlanta, and MARTA and are included in the regional Transportation Improvement Program. The No Build Alternative would also assume that no trail improvements would be made other than what is currently committed to by the City of Atlanta and Atlanta BeltLine Inc.

• Build Alternatives: The Build Alternatives are to be based on the PA established in the Alternatives Analysis and would evaluate variations in the alignment based on feasibility and potential for impacts. In addition to any alternatives uncovered during public scoping, the Build Alternatives would include a new 23-mile transit service, primarily on existing rail corridor and identify locations for new stations on the alignment, with connections to MARTA's heavy rail system at its Lindbergh Center, Inman Park/Reynoldstown, West End, and Ashby Stations. The Build Alternatives would also incorporate a system of connecting trails that would run adjacent to the transit line and provide vital connections to existing and proposed recreational facilities around the Atlanta BeltLine Corridor.

This preliminary range of alternatives may be supplemented during the public scoping process and development of the Tier 1 Draft EIS.

The Tiered EIS Process and the Role of the Participating Agencies and the Public: The purpose of the Tier 1 EIS process is to serve as the basis for the decision regarding the project design concept and scope and will support the acquisition of the right-of-way for corridor preservation. The Tier 1 DEIS will preliminarily screen and evaluate a range of social, environmental, and economic impacts resulting from the mode choice, general alignment, and approximate location of stations. Impacts to the affected environment will be screened and evaluated based upon information uncovered during public scoping and interagency coordination efforts. MARTA will prepare an Annotated Outline for the DEIS following this scoping. This gives assurances that the Tier 1 document will focus on the issues ripe for consideration and that scoping has accomplished its intended purpose.

The Tier 1 EIS will build upon the extensive screening, environmental and technical studies and public comments and outreach conducted to date. Tiering will allow the FTA and MARTA to conduct planning and NEPA activities for this large project and focus on those decisions that are ready to be made at this level of analysis. The Tier 1 analysis will serve as a basis for establishing the general alignment of the proposed transit and trail corridor along the entire 23-mile loop. Conceptual locations of stations, trail connections, and other facilities will be determined, as will the choice of transit technology. The scope of analysis in the Tier 1 EIS will be appropriate to the level of detail necessary to make informed decisions and will receive input from the public and the reviewing agencies.

A goal of the Tier 1 EIS and these decisions is to support future ROW preservation along the entire 22-mile loop. FTA allows the advance acquisition of a limited amount of real property for hardship or protective purposes as defined in the NEPA regulation at 23 CFR 771.117(d)(12). Also, in accordance with 49 U.S.C. 5324(c), the acquisition of pre-existing railroad ROW may be evaluated for NEPA purposes separately from the future transit and trails project that will ultimately be built on that ROW under certain conditions and with certain understandings. With these exceptions, all corridor parcels cleared for ROW preservation and purchase in the Tier 1 document will be individually identified and documented.

This Tier 1 EIS will also meet the requirements of the Georgia Environmental Policy Act (GEPA). GEPA requires the assessment of any state-level action to determine whether or not the action may significantly adversely affect the quality of the environment. A project that is subject to NEPA review has met the requirements of GEPA and does not require separate documentation.

The Build Alternative would be finalized after the circulation of the Tier 1 DEIS to the public and then included in the Tier 1 Final EIS. After completion the FEIS, the Federal Transit Administration (FTA) will issue a Record of Decision (ROD) on the Preferred Alternative which will include selection of transit mode and general alignment. The Tier 1 EIS will serve as the point of departure for future project refinement and subsequent, in depth environmental analysis required for Tier 2 analysis when the project advances further through the project development process. NEPA regulations and SAFETEA-LU provisions call for public involvement in the EIS process. Section 6002 of SAFETEA-LU requires that FTA and MARTA do the following: (1) Extend an invitation to other Federal and non-Federal agencies and Indian tribes that may have an interest in the proposed project to become “participating agencies,” (2) provide an opportunity for involvement by participating agencies and the public in helping to define the purpose and need for the proposed project, as well as the range of alternatives for consideration in the impact statement, and (3) establish a plan for coordinating public and agency participation in and comment on the scoping information packet. It is possible that we may not be able to identify all Federal and non-Federal agencies and Indian tribes that may have such an interest. Any Federal or non-Federal agency or Indian tribe interested in the proposed project that does not receive an invitation to become a participating agency should notify at the earliest opportunity the Project Manager identified above under ADDRESSES.

A comprehensive public involvement program has been developed and a public and agency involvement Coordination Plan will be created. The program includes a project Web site: http://www.itsmarta.com/newsroom/beltline.html; outreach to local and county officials and community and civic groups; a public scoping process to define the issues of concern among all parties interested in the project; establishment of a technical advisory committee and stakeholder advisory committee; a public hearing on the release of the Tier I DEIS; and development and distribution of project newsletters. The Coordination Plan will be posted to this Web site.

The purpose and need for the proposed project have been preliminarily identified in this notice. We invite the public and participating agencies to consider the preliminary statement of purpose and need for the proposed project, as well as the alternatives proposed for consideration. Suggestions for modifications to the statement of purpose and need for the proposed project and any other alternatives that meet the purpose and need for the proposed project are welcome and will be given serious consideration. Comments on potentially significant environmental impacts that may be associated with the proposed project and alternatives are also welcome. There will be additional opportunities to participate in the scoping process at the public meetings announced in this notice.

In accordance with 23 CFR 771.105 (a) and 771.133, FTA will comply with all Federal environmental laws, regulations, and executive orders applicable to the proposed project during the environmental review process to the maximum extent practicable. These requirements include, but are not limited to, the regulations of the Council on Environmental Quality and FTA implementing NEPA (40 CFR parts 1500-1508, and 23 CFR Part 771), the project-level air quality conformity regulation of the U.S. Environmental Protection Agency (EPA) (40 CFR part 93), and Section 404(b)(1) guidelines of EPA (40 CFR part 230), the regulation implementing Section 106 of the National Historic Preservation Act (36 CFR Part 800), the regulation implementing section 7 of the Endangered Species Act (50 CFR part 402), Section 4(f) of the Department of Transportation Act (23 CFR 771.135), and Executive Orders 12898 on environmental justice, 11988 on floodplain management, and 11990 on wetlands.

Issued on: July 17, 2008.
Yvette G. Taylor,
Regional Administrator, FTA Region 4.

[FR Doc. E8-16990 Filed 7-23-08; 8:45 am]

BILLING CODE 4910-57-P